ENVIRONMENTAL PROTECTION AGENCY

[FRL OP-OFA-120]

Environmental Impact Statements; Notice of Availability

Responsible Agency: Office of Federal Activities, General Information 202-564-5632 or https://www.epa.gov/nepa.

Weekly receipt of Environmental Impact Statements (EIS)

Filed March 25, 2024 10 a.m. EST Through April 1, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240057, Final, NMFS, NY, ADOPTION—Sunrise Wind Project, Contact: Jaclyn Daly 301-427-8401.

The National Marine Fisheries Service (NMFS) has adopted the Bureau of Ocean Energy Management's Final EIS No. 20230178 filed 12/11/2023 with the Environmental Protection Agency. The NMFS was a cooperating agency on this project. Therefore, republication of the document is not necessary under Section 1506.3(b)(2) of the CEQ regulations.

EIS No. 20240058, Draft, FERC, ME, Weston, Lockwood, and Hydro Kennebec Projects, and the relicensing of the Shawmut Project, Comment Period Ends: 06/04/2024, Contact: Office of External Affairs 866-208-3372.

EIS No. 20240059, Final, GSA, AZ, Expansion and Modernization of the Raul Hector Castro Land Port of Entry and Proposed Commercial Land Port of Entry in Douglas, Arizona, Review Period Ends: 05/06/2024, Contact: Osmahn Kadri 415-522-3617.

EIS No. 20240060, Final Supplement, NRC, FL, Site-Specific Environmental Impact Statement for License Renewal of Nuclear Plants Regarding Subsequent License Renewal for Turkey Point Nuclear Generating Unit Nos. 3 and 4, NUREG-1437, Supplement 5a, Second Renewal, Final Report (NUREG-1437), Review Period Ends: 05/06/2024, Contact: Lance Rakovan 301-415-2589.

EIS No. 20240061, Draft, BLM, NM, Organ Mountains-Desert Peaks National Monument Draft Resource Management Plan and Environmental Impact Statement, Comment Period Ends: 07/05/2024, Contact: Patrick Rich, RMP Team Lead 405-579-7154.

EIS No. 20240062, Draft, BLM, OR, Draft Resource Management Plan and Environmental Impact Statement Cascade-Siskiyou National Monument, Comment Period Ends: 07/05/2024, Contact: Nikki Haskett 202-740-0835.

Dated: April 1, 2024.
Julie A. Roemele,
Acting Director, NEPA Compliance Division, Office of Federal Activities.

[FR Doc. 2024-07250 Filed 4-4-24; 8:45 am]

BILLING CODE 6560-50-P